NATIONAL AERONAUTICS AND SPACE ADMINISTRATION

[Notice: (10-161)]

NASA Advisory Council; Technology and Innovation Committee; Meeting

AGENCY: National Aeronautics and Space Administration.

ACTION: Notice of Meeting.

SUMMARY: In accordance with the Federal Advisory Committee Act, Public Law 92-463, as amended, the National Aeronautics and Space Administration announces a meeting of the Technology and Innovation Committee of the NASA Advisory Council. The meeting will be held for the purpose of reviewing the Space Technology Program planning and review innovation activities at NASA's Kennedy Space Center (KSC).

DATES: Wednesday, January 12, 2011, 10 a.m. to 3:30 p.m., Local Time.

ADDRESSES: NASA Kennedy Space Center Visitor Center Complex, NASA Parkway West, Building M6-457, Debus Conference Facility, Kennedy Space Center, FL 32899.

FOR FURTHER INFORMATION CONTACT: Mr. Mike Green, Office of the Chief Technologist, NASA Headquarters, Washington, DC 20546, (202) 358-4710, fax: (202) 358-4078, or g.m.green@nasa.gov.

SUPPLEMENTARY INFORMATION: The meeting will be open to the public up to the capacity of the room. The agenda for the meeting includes the following topics:

• Office of the Chief Technologist Update.

• Overview of NASA Technology Transfer and Commercialization activities.

• Presentation and discussion of Intellectual Property issues at NASA.

• Update on NASA's Space Technology Roadmap activities.

• Overviews of technology and innovation activities underway at KSC.

It is imperative that the meeting be held on these dates to accommodate the scheduling priorities of the key participants. Public visitors attending the meeting should park at KSC Visitor Complex parking lots 4 or 5. Once parked, please proceed towards the ticket plaza. To the left of the ticket plaza will be a side gate that you may continue through to the Debus Conference Facility (yellow arrow).

Dated: December 14, 2010.
P. Diane Rausch,
Advisory Committee Management Officer, National Aeronautics and Space Administration.

[FR Doc. 2010-31812 Filed 12-17-10; 8:45 am]

BILLING CODE P